DEPARTMENT OF THE INTERIOR

Bureau of Land Management

[LLWYR05000 L16100000.DQ0000 LXSS04 K0000]

Notice of Availability of the Proposed Resource Management Plan and Final Environmental Impact Statement for the Lander Field Office Planning Area, WY

AGENCY: Bureau of Land Management, Interior.

ACTION: Notice of availability.

SUMMARY: In accordance with the National Environmental Policy Act of 1969, as amended, and the Federal Land Policy and Management Act of 1976, as amended, the Bureau of Land Management (BLM) has prepared a proposed Resource Management Plan (RMP)/final environmental impact statement (EIS) for the Lander, Wyoming, Field Office and by this notice is announcing its availability.

DATES: BLM planning regulations state that any person who meets the conditions described in the regulations may protest the BLM's proposed RMP/final EIS. A person who meets the conditions and files a protest must file the protest within 30 days of the date that the Environmental Protection Agency publishes its Notice of Availability of the proposed RMP/final EIS in the Federal Register.

ADDRESSES: Copies of the Lander proposed RMP/final EIS have been sent to affected Federal, State, and local Government agencies and to other stakeholders, tribal Governments and members of the public who have requested copies. Copies of the Lander proposed RMP/final EIS are available for public inspection at the BLM Lander Field Office, 1335 Main Street, Lander, Wyoming; BLM Wind River/Bighorn Basin District Office, 101 South 23rd Street, Worland, Wyoming; Fremont County public libraries in Riverton, Lander, and Dubois and Central Wyoming College and at the Eastern Shoshone and the Northern Arapaho Tribal Business Councils in Fort Washakie, Wyoming. Interested persons may also review the proposed RMP/final EIS on the Internet at http://www.blm.gov/wy/st/en/programs/Planning/rmps/lander.html. All protests must be in writing and mailed to one of the following addresses:

Regular mail | Overnight mail
BLM Director (210), Attention: Brenda Williams, P.O. Box 71383, Washington, DC 20024-1383 | BLM Director (210), attention: Brenda Williams, 20 M Street SE., Room 2134LM, Washington, DC 20003.

FOR FURTHER INFORMATION CONTACT: For further information contact Kristin Yannone, Planner; telephone 307-332-8400; address BLM Lander Field Office, 1335 Main Street, Lander, WY 82520; email BLM_WY_LRMP_WYMail@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The planning area includes lands within the BLM Lander Field Office's administrative boundaries, including all of Fremont County and some of Teton, Sweetwater, Hot Springs, Carbon, and Natrona counties in Wyoming. The planning area includes all lands, regardless of jurisdiction, totaling approximately 6.6 million acres; however, the BLM will only make decisions on lands that fall under the BLM's jurisdiction. The decision area includes approximately 2.4 million acres of BLM-administered surface and 2.8 million acres of Federal mineral estate. The proposed RMP will replace the 1987 Lander RMP.

The Draft RMP/EIS was made available for public review for a 90-day period on September 9, 2011. The Draft RMP/EIS described and analyzed a series of goals, objectives, and management actions, within four management alternatives, designed to address new management challenges and issues raised during scoping. These included, but were not limited to, mineral development, livestock grazing, air quality, special management areas including areas of critical environmental concern (ACEC), wildlife habitats including that of the Greater Sage-Grouse, and management of the settings of the National Historic trails. The four alternatives were:

• Alternative A: Continues existing management practices (no action alternative);

• Alternative B: Emphasizes conservation of natural and cultural resources while providing for compatible development and use;

• Alternative C: Emphasizes resource development and use while protecting natural and cultural resources; and

• Alternative D: Provides development opportunities while protecting sensitive resources (proposed RMP).

Comments on the Draft RMP/EIS received from the public and internal BLM review were carefully considered and incorporated as appropriate into the proposed RMP. The proposed RMP would provide comprehensive, long-range decisions for the use and management of resources in the planning area administered by the BLM and focus on the principles of multiple use and sustained yield.

Alternative D includes objectives and management actions to ensure future BLM actions support the nature and purposes of the five congressionally designated National Historic Trails within the Lander Field Office. Alternative D adopts a National Trails Management Corridor with allowable uses, management actions, and necessary restrictions for all resources and resource uses within the corridor in order to effectively support the nature and purposes of the National Historic Trails, and the resources, qualities, values, and associated settings and the primary use or uses of each trail. Descriptions and maps of the proposed National Trail Management Corridor(s) have been prepared and are found within the Lander proposed RMP/final EIS, and are also available for review at the BLM Wyoming State Office and at the Lander Field Office.

Instructions for filing a protest with the Director of the BLM regarding the proposed RMP/final EIS may be found in the “Dear Reader” letter of the proposed Lander RMP/final EIS and at 43 CFR 1610.5-2. All protests must be in writing and mailed to the appropriate address, as set forth in the ADDRESSES section above. Emailed and faxed protests will not be accepted as valid protests unless the protesting party also provides the original letter by either regular or overnight mail postmarked by the close of the protest period. Under these conditions, the BLM will consider the emailed or faxed protest as an advance copy and it will receive full consideration. If you wish to provide the BLM with such advance notification, please direct emails to Brenda_Hudgens-Williams@blm.gov and faxed protests to the attention of the BLM protest coordinator at 202-245-0028.

Before including your phone number, email address, or other personal identifying information in your protest, you should be aware that your entire protest—including your personal identifying information—may be made publicly available at any time. While you can ask us in your protest to withhold your personal identifying information from public review, we cannot guarantee that we will be able to do so.

Authority: 40 CFR 1506.6, 40 CFR 1506.10, 43 CFR 1610.2, 43 CFR 1610.5.

Donald A. Simpson,
State Director.

[FR Doc. 2013-03991 Filed 2-21-13; 8:45 am]

BILLING CODE 4310-22-P